DEPARTMENT OF ENERGY

Federal Energy Regulatory Commission

Combined Notice of Filings

Take notice that the Commission has received the following Natural Gas Pipeline Rate and Refund Report filings:

Filings Instituting Proceedings

Docket Numbers: RP18-542-000.

Applicants: Natural Gas Pipeline Company of America.

Description: § 4(d) Rate Filing: Negotiated Rate Filing Macquarie Energy to be effective 4/1/2018.

Filed Date: 3/5/18.

Accession Number: 20180305-5001.

Comments Due: 5 p.m. ET 3/19/18.

Docket Numbers: RP18-543-000.

Applicants: Cheyenne Plains Gas Pipeline Company, L.L.C.

Description: § 4(d) Rate Filing: Non-Conforming Agreement Filing (Grasslands) to be effective 4/1/2018.

Filed Date: 3/5/18.

Accession Number: 20180305-5011.

Comments Due: 5 p.m. ET 3/19/18.

Docket Numbers: RP18-544-000.

Applicants: Iroquois Gas Transmission System, L.P.

Description: § 4(d) Rate Filing: 030518 Negotiated Rates—Freepoint Commodities LLC R-7250-21 to be effective 4/1/2018.

Filed Date: 3/5/18.

Accession Number: 20180305-5046.

Comments Due: 5 p.m. ET 3/19/18.

Docket Numbers: RP18-545-000.

Applicants: UGI Sunbury, LLC.

Description: Request for Waiver of Annual Retainage Adjustment Filing.

Filed Date: 3/1/18.

Accession Number: 20180301-5307.

Comments Due: 5 p.m. ET 3/13/18.

Docket Numbers: RP18-546-000.

Applicants: ENGIE S.A.,Global LNG S.A.S.

Description: Joint Petition of ENGIE S.A., et al. for Temporary Waivers of Capacity Release Regulations and Policies, et al.

Filed Date: 3/1/18.

Accession Number: 20180301-5308.

Comments Due: 5 p.m. ET 3/8/18.

Docket Numbers: RP18-547-000.

Applicants: High Point Gas Transmission, LLC.

Description: Annual Unaccounted for Gas Retention Filing of High Point Gas Transmission, LLC.

Filed Date: 3/1/18.

Accession Number: 20180301-5310.

Comments Due: 5 p.m. ET 3/13/18.

Docket Numbers: RP18-548-000.

Applicants: Algonquin Gas Transmission, LLC.

Description: § 4(d) Rate Filing: Negotiated Rates—ConEd release to Median Energy to be effective 3/6/2018.

Filed Date: 3/5/18.

Accession Number: 20180305-5291.

Comments Due: 5 p.m. ET 3/19/18.

Docket Numbers: RP18-549-000.

Applicants: Texas Eastern Transmission, LP.

Description: § 4(d) Rate Filing: Negotiated Rates—ConEd release to Median Energy to be effective 3/6/2018.

Filed Date: 3/5/18.

Accession Number: 20180305-5326.

Comments Due: 5 p.m. ET 3/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 6, 2018.
Nathaniel J. Davis, Sr.,
Deputy Secretary.

[FR Doc. 2018-04855 Filed 3-9-18; 8:45 am]

BILLING CODE 6717-01-P